DEPARTMENT OF HEALTH AND HUMAN SERVICES

Single-Source Supplement for Title X Services in Texas

AGENCY: Office of Population Affairs, Office of the Assistant Secretary for Health, Office of the Secretary, Department of Health and Human Services (HHS).

ACTION: Notice.

SUMMARY: The Office of Population Affairs (OPA) announces the award of a single-source supplement to provide Title X family planning services in Texas to Women's Health and Family Planning Association of Texas (d.b.a. Every Body Texas). The supplement will enable Every Body Texas to expand provision of emergency contraception and other family planning services to clients across the state of Texas to address the anticipated increased demand for family planning services following passage of TX SB8.

DATES: December 13, 2021.

FOR FURTHER INFORMATION CONTACT: Jessica Swafford Marcella, Deputy Assistant Secretary for Population Affairs, Office of Population Affairs, Office of the Assistant Secretary for Health, Department of Health and Human Services at Jessica.marcella@hhs.gov and 240-453-2800.

SUPPLEMENTARY INFORMATION: Recipient: Every Body Texas, Austin, TX.

Purpose of the Award: The purpose of this award is to address the anticipated need for family planning services across the state of Texas in response to TX SB8. With this funding, Every Body Texas will expand the provision of emergency contraception and other family planning services to clients across the state of Texas through their existing Title X network.

Amount of Award: $750,000.

Project Period: The project period for the supplemental award will not exceed the recipient's current project period, which is scheduled to end on March 31, 2022.

OPA currently provides $15,820,000 in Title X funding to Every Body Texas. With their Title X funding, Every Body Texas provides Title X family planning services across Texas through a network of 36 subrecipients and 192 service sites. In 2019, Every Body Texas provided family planning services to 176,697 clients across the State of Texas.

Supplemental funding will enable Every Body Texas to expand provision of emergency contraception and other family planning services to clients across the state of Texas through their existing Title X network, in response to TX SB8. Title X family planning services are services that assist in preventing or achieving pregnancy. Title X clinics must provide a broad range of acceptable and effective family planning methods and services, including: Contraceptive education, counseling, and methods (includes hormonal methods; fertility awareness-based methods; barrier methods; abstinence; and/or permanent sterilization); services centered around pre-conception health and achieving pregnancy (includes infertility services; STI prevention, education, screening, and treatment; HIV testing and referral); and pregnancy diagnosis and counseling. The broad range of family planning services does not include abortion as a method of family planning.

This award is being made non-competitively because Every Body Texas is the only existing Title X grantee providing services across the entire state of Texas. Issuing a single-source supplemental award to Every Body Texas would expand services across the entire state.

Dated: November 30, 2021.
Jessica Swafford Marcella,
Deputy Assistant Secretary for Population Affairs, Office of Population Affairs, Office of the Assistant Secretary for Health.

[FR Doc. 2021-26850 Filed 12-10-21; 8:45 am]

BILLING CODE 4150-30-P